DEPARTMENT OF EDUCATION

[Docket ID ED-2025-OESE-0152]

School-Based Mental Health Grant Program

AGENCY: U.S. Department of Education.

ACTION: Final priorities, requirements, and definitions.

SUMMARY: The Department of Education (Department) announces final priorities, requirements, and definitions under the School-Based Mental Health Services (SBMH) Program, Assistance Listing Number (ALN) 84.184H. We may use one or more of these priorities, requirements, and definitions for competitions in fiscal year (FY) 2025 and later years. These final priorities, requirements, and definitions are designed to target activities with the purpose of increasing the number of credentialed school-based mental health services providers, specifically school psychologists, in high-need local educational agencies (LEAs) available to provide mental health services to students. These priorities, requirements, and definitions replace the Notice of Final Priorities, Requirements, and Definitions published in the Federal Register on October 4, 2022 (87 FR 60092). However, those priorities, requirements, and definitions remain in effect for previous grant competitions in which the notices inviting applications (NIAs) were published before the Department finalized the proposed priorities, requirements, and definitions in this notice.

DATES: The final priorities, requirements and definitions are effective October 29, 2025.

FOR FURTHER INFORMATION CONTACT: Dana Carr, U.S. Department of Education, 400 Maryland Avenue SW, Room 4B210, Washington, DC 20202-6450. Telephone: (202)987-0119. Email: oese.school.mental.health@ed.gov.

If you are deaf, hard of hearing, or have a speech disability and wish to access telecommunications relay services, please dial 7-1-1.

SUPPLEMENTARY INFORMATION:

Purpose of this Regulatory Action: On July 17, 2025, the Department published a notice of proposed priorities, requirements, and definitions (NPP) in the Federal Register (90 FR 33353). Through this regulatory action, we establish final priorities, requirements, and definitions that the Department may use for competitions in fiscal year (FY) 2025 and later years.

Summary of the Major Provisions of This Regulatory Action: The NPP contained background information and our reasons for proposing the priorities, requirements, and definitions. There is a minor clarification between the proposed priorities, requirements, and definitions and the final priorities, requirements, and definitions established in this notice of final priorities, requirements, and definitions (NFP), as discussed in the Analysis of Comments and Changes section in this document.

Purpose of Program: The SBMH program provides competitive grants to State educational agencies (SEASs)(as defined in 20 U.S.C. 7801(30)), LEAs (as defined in 20 U.S.C. 7801(49), and consortia of LEAs to increase the number of credentialed school-based mental health services providers, specifically school psychologists, delivering mental health services to students in high-need LEAs.

Program Authority: Section 4631(a)(1)(B) of the Elementary and Secondary Education Act of 1965, as amended (ESEA) (20 U.S.C. 7281(a)(1)(B)).

Public Comment: In response to our invitation in the NPP, the Department received comments from over 2,400 commenters on the proposed priorities, requirements, and definitions.

Generally, we do not address technical and other minor changes, or suggested changes that the law does not authorize us to make under applicable statutory authority. In addition, we do not address general comments regarding concerns not directly related to the proposed priorities, requirements, or definitions.

Analysis of Comments and Changes: An analysis of the comments and of any changes in the priorities and definitions since publication of the NPP follows.

General Comments

Comments: Many commenters supported the proposed changes to the priorities, requirements, and definitions, such as those related to limiting the scope of the program, and specific restrictions related to using program funds to support gender ideology and increasing requirements related to parental consent. A few commenters, however, suggested that the Department not support the expenditure of funds for mental health grants and instead recommended that the Department remain solely focused on supporting academic achievement. Other commenters opposed some of the proposed changes to the priorities, as well as some of the requirements and definitions, as detailed below.

Discussion: We appreciate the comments expressing support for the priorities, requirements, and definitions. The Department recognizes the connection between mental health and learning. Students facing mental health challenges may be unable to focus on learning, and increasing the capacity of schools to provide needed services to students may support these students' academic engagement. In addition, the Department is committed to implementing the Bipartisan Safer Communities Act as planned, which requires the Department to support mental health grant programs through FY 2026.

Changes: None.

Comments: Several commenters encouraged the Department to allow Institutions of Higher Education (IHEs) to be eligible applicants in this program. One commenter stated that IHEs would help address the needs of high-need LEAs to employ and retain school psychologists by creating partnerships and a workforce pipeline.

Discussion: This program is intended to address workforce shortages by providing SEAs and LEAs with funds to recruit and retain credentialed providers who are available to meet their immediate workforce needs. Therefore, we think SEAs and LEAs are the most appropriate recipients for these funds. This approach also meets the Department's broader goal of returning education to States.

Changes: None.

Comments: One commenter noted that some applicants would benefit from technical assistance on raising matching funds for the grant.

Discussion: Although this grant program historically required matching funds to be eligible to apply, this is no longer required in this program. However, the Department encourages SEAs and LEAs to develop sustainable funding models for any mental health services that are necessary to meet the needs of their students, particularly those most in need of early intervention and intensive mental health services.

Changes: None.

Priorities

Comments: Many commenters recommended that the Department revise the priorities, requirements, and definitions, where applicable, to include recruitment, retention, and respecialization of school counselors, social workers, and other school-based mental health service providers, in addition to school psychologists). Many commenters suggested these changes because they believe school counselors and school social workers are necessary to meet the full continuum of mental health needs of students, and are critical to strengthening family-school partnerships. One commenter noted that the definition of “high-need LEA” proposed in the NPP underscores the need for a comprehensive, rather than narrowly specialized, response from a range of providers. A few commenters also believe that other professionals, such as those licensed as occupational therapists or licensed family therapists, should also be included because, in some States, their credential allows them to provide necessary mental health services to students. Many commenters also pointed out that the functions of school psychologists delineated in the notice are not commonly carried out by school psychologists, but rather undertaken by school social workers, school counselors, or other school-based mental health providers. Commenters stated that one function school psychologists often carry out is educational testing. Additionally, many commenters noted the prevalent school-based mental health workforce shortages that would be alleviated by allowing a range of professionals to be included in this program.

Discussion: The Department believes that school psychologists are the school-based officials who are clinically trained and licensed to provide early intervention and intensive mental health services to students most in need. While commenters may support a team of school-based mental health providers that includes school counselors, school social workers, and other professionals, such as licensed occupational therapists or licensed family therapists, the Department believes school psychologists are best suited to provide these clinical services and is choosing to prioritize SBMH funds accordingly.

Over the past several years, concerns about the mental health of children and youth have increased.¹ From documented increases in emergency room visits for mental health crises to reports of increased sadness and hopelessness among adolescents, the Department believes schools play a role in helping to meet youth mental health service needs.2 3 The Department is focusing this program on school psychologists, as opposed to school counselors and school social workers, because these individuals have training that is uniquely focused on the intersection between students' behaviors, motivations, disabilities, mental health and the impact that all of these variables may have on learning. While other providers may have a more focused skillset or may support students more generally, school psychologists are trained to both assess and identify students with the greatest mental and behavioral health needs and provide targeted services to address those needs and re-engage students in learning.

¹ For example, death due to suicide among adolescents ages 12-17 increased by 75.7% (rising from 3.7 to 6.5 deaths per 100,000 population) between 2008 and 2021. See 2023 National Healthcare Quality and Disparities Report. Available at: https://www.ahrq.gov/research/findings/nhqrdr/nhqdr23/index.html. Accessed September 22, 2025.

² Feuer V., Mooneyham G.C., Malas N.M., Pediatric Boarding Consensus Guidelines Panel. Addressing the Pediatric Mental Health Crisis in Emergency Departments in the US: Findings of a National Pediatric Boarding Consensus Panel. J Acad Consult Liaison Psychiatry. 2023 Nov-Dec;64(6):501-511.

³ U.S. Department of Health and Human Services. Centers for Disease Control and Prevention. 2023 Youth Risk Behavior Survey Results. Available at: https://www.cdc.gov/yrbs/results/2023-yrbs-results.html. Accessed September 22, 2025.

While schools may continue to hire and train school counselors and social workers using State and local funds, the Department's policy approach is to use its limited Federal funds to focus on school psychologists because of their expertise to both assess and identify students with the greatest needs and provide specialized services appropriate to those needs.

Changes: None.

Comments: Many commenters noted that rural LEAs face unique challenges in recruiting, training, reskilling, and retaining school psychologists in rural areas. One commenter recommended that the Department provide additional resources or incentives for developing innovative approaches to training and retaining school psychologists in rural areas, such as distance learning programs, stipends for internships, or State-specific credentialing pathways that recognize prior experience.

Discussion: We appreciate these comments highlighting the unique challenges of rural LEAs. Rural LEAs can use this opportunity to propose a project that creates or enhances innovative respecialization and retention strategies to increase the number of available credentialed school psychologists. We note the Department has a priority available in the Education Department General Administrative Regulations (EDGAR) at 34 CFR 75.227, which authorizes the Department to prioritize rural areas, if appropriate for a given competition. As such, we decline to make any changes.

Changes: None.

Comments: Although a few commenters supported the use of funds to exclusively focus on intensive mental health services, and one commenter suggested not including mental health services at all, many commenters recommended that the Department expand the focus of the priorities, requirements, and definitions, where applicable from focusing on early intervention and intensive mental health services to include the full continuum of services and approaches aligned with a Multi-Tiered System of Support (MTSS). A MTSS continuum, as noted by many commenters, includes universal or preventive approaches for the entire student body and school to decrease the need for higher-level and intensive mental health services. One commenter suggested that Priority 3 specifically could be edited to replace “intensive” with “comprehensive” to broaden the focus. A few commenters encouraged the Department to require that all projects or practices be “evidence based,” which includes comprehensive approaches.

Discussion: The Department is prioritizing evidence-based early intervention and intensive mental health services in this program to maximize Federal funds to support mental health services for students who need them. SEAs and LEAs can opt to use other available Federal, State, or local funding to deliver universal or preventive approaches that complement early intervention and intensive services provided under this grant program.

Changes: None.

Comments: A few commenters recommended that the Department explicitly include substance abuse as part of the service delivery scope in the priorities, requirements, and definitions, as applicable.

Discussion: The Department recognizes the complex intersection of substance use and mental health. School psychologists trained and hired to provide early intervention and intensive mental health services under this program can address these needs as part of their provision of mental health services to the extent they impact the student's engagement in school. However, funds cannot be used for other substance use treatment services apart from early intervention or intensive mental health services.

Changes: None.

Comments: Several commenters suggested that the Department refine the requirements for the respecialization plan described in proposed priority 4. Several commenters suggested that the Department specify that respecialization should align with National Association of School Psychologists standards and not be a substitute for a State credential. Several commenters expressed concern that the requirement would potentially allow respecialization in this context to be used as a mechanism to lower the standards to become a school psychologist. Additionally, a few commenters noted that respecialization will take a long time and will delay care. One commenter recommended that the Department consider expanding the language to encourage States to examine and expand their current reciprocity policies to ensure qualified professionals have pathways to licensure when relocating to different States.

Discussion: We appreciate these comments. The Department believes that respecialization plans are a strategy that should be available to SEAs to address the current shortage of school psychologists. SEAs may propose plans to create or enhance innovative approaches to respecialization that simultaneously encourage professional retraining and alternative pathways to obtain a State-license or State-certification to increase the number of available credentialed school psychologists while also maintaining high expectations for training and quality for these credentialed professionals.

Changes: None.

Comment: One commenter recommended that the Department add a competitive preference priority to award more points to current grantees with a proven record of success.

Discussion: The Department encourages eligible applicants, including current grantees, to apply for funding in any year in which a Notice Inviting Applications (NIA) for this program is offered. The Department does not establish or identify the type of priority (Absolute, Competitive Preference, or Invitational) through an NFP but separately in the NIA in which the priority is used.

Changes: None.

Requirements

Comments: A few commenters supported Program Requirement (d), which prohibits the use of funds for “gender ideology,” “political activism,” “racial stereotyping,” and “hostile environments for students of particular races.” Many commenters expressed that this requirement would actively threaten the mental health and safety of transgender students or those who identify as LGBTQ+, and that it could create barriers to access for needed mental health services. One commenter stated that the proposed rule unlawfully discriminates against students who identify as transgender and could conflict with State or local laws protecting students and establishing licensing and certification requirements.

Discussion: The Department believes it is not the role of school psychologists to promote particular ideologies or stereotypes when addressing the mental health needs of students. The intent of Program Requirement (d) is not to harm or limit services to students, but to ensure that program funds are particularly focused on providing targeted mental health services without tying such services to particular ideologies or stereotypes. The four prohibitions on the use of funds in Program Requirement (d) reflect the Department's concern regarding the prior administration's policy to use SBMH program funds in ways that strayed from the original intent and purposes of the SBMH program. For example, the 2022 Notice of Final Priorities for this program (87 FR 60092 (October 4, 2022)) established priorities that incentivized racial preferencing and racial stereotyping in order to receive preference for grant funding. In the current NFP, these requirements on their face do not impose any barriers or restrictions whatsoever on students receiving mental health services, and, as explained below, are instead concerned with addressing activities the Department anticipates could result in violations of federal law. Additionally, the Department does not believe that Program Requirement (d) would impact the ability of any school psychologist to receive a license or certification. The Department is not aware of any licensing or certification authority that would require adherence to, or compliance with, any of the grant funding prohibitions in Program Requirement (d) in order to receive a license or certification. Similarly, the Department is not aware of State laws compelling adherence or compliance with these grant funding prohibitions as described herein.

Changes: None.

Comments: Many commenters recommended that the Department define the terms included in Program Requirement (d), including “gender ideology,” “political activism,” “racial stereotyping,” and “hostile environments for students of particular races.” Many commenters asked that the Department also provide examples of allowable activities. A few commenters pointed out that the terms used in the proposed requirement are overly broad, do not contain a reasoned explanation for incorporating these terms into the grant program, and no standards exist against which to assess potential activities.

Discussion: As noted above, the four prohibitions identified in Program Requirement (d) reflect the Department's concern regarding the prior administration's policy to use SBMH program funds in ways that strayed from the original intent and purposes of the SBMH program. For example, the 2022 Notice of Final Priorities for this program (87 FR 60092 (October 4, 2022)) established priorities that incentivized racial preferencing and racial stereotyping as a condition to receive a grant. While the Department declines to further define these prohibitions as their terms are commonly used and understood, we would view potential violations of these prohibitions similarly to potential violations of our civil rights laws. For instance, using federal funds for “gender ideology” may be inconsistent with Title IX of the Education Amendments Act of 1972 (20 U.S.C. 1681 et seq.). “Political activism” is conduct that could be inconsistent with the restrictions described in 31 U.S.C. 1352 and 2 CFR 200.450. And using funds to engage in “Racial stereotyping” or create “hostile environments for students of particular races” may be inconsistent with Title VI of the Civil Rights Act of 1964 (42 U.S.C. 2000d et seq.).

Regarding commenters' requests for the Department to provide guidance regarding allowable activities, we encourage commenters to read resources such as the Department of Justice's “Guidance for Recipients of Federal Funding Regarding Unlawful Discrimination,” ⁴ which contains many helpful examples, and the President's Executive Order 14168, which describes the policy of the federal government regarding gender ideology.⁵

⁴ See https://www.justice.gov/opa/pr/justice-department-releases-guidance-recipients-federal-funding-regarding-unlawful. Last Accessed September 22, 2025.

⁵ See https://www.whitehouse.gov/presidential-actions/2025/01/defending-women-from-gender-ideology-extremism-and-restoring-biological-truth-to-the-federal-government/. Last Accessed September 22, 2025.

Changes: None.

Comments: Many commenters stated that the Department should promote safe and healthy learning environments for all students, and that Requirement (d), which prohibits applicants who receive an award under this program from using program funds for promoting or endorsing: (1) gender ideology, (2) political activism, (3) racial stereotyping, or (4) hostile environments for students of particular races actually creates an unsafe school climate because of the chilling effects of limiting speech with, or services for, specific students.

Discussion: The Department disagrees that Program Requirement (d) would limit speech or services to students. Indeed, by its plain language, Program Requirement (d) is a requirement on use-of-funds that applies to potential grantees under this program. Had the Department sought to more affirmatively establish participation requirements or limit the eligible students to be served under this program, it would have done so. Rather, the Department has left it up to potential grantees to determine how they will provide “intensive mental health services and supports to individual students most in need of those services” within the requirements established for this program. Additionally, regarding the commenters' concerns for student speech, since the seminal Supreme Court case Tinker v. Des Moines (393 U.S. 503) (1969), students have enjoyed robust First Amendment protections in school settings and, in general, do not “shed their constitutional rights . . . at the schoolhouse gate”. This includes school-based therapeutic settings. No such prohibition regarding speech is contemplated by these plain use-of-grant-funds requirements. However, to be responsive to commenter's concerns, and to further clarify that the Department's priorities delineate limits on only the use of grant funds for the SBMH program, we have revised the lead-in to the requirement to clarify these prohibitions are not repugnant to the First Amendment to the Constitution of the United States.

Changes: The Department has revised Program Requirement (d) by removing “promoting and endorsing.”

Comments: One commenter stated that Requirement (e), which requires that applicants that receive an award under this program must ensure that school psychologists funded by this grant begin delivering services to students as soon as possible, but not later than 270 days from award, is not reasonable. The commenter encouraged approaches such as respecialization of already licensed mental health professionals to expedite training and hiring school-based mental health professionals.

Discussion: The Department believes, and has seen evidence from past grantees, that 270 days from the grant award date is sufficient to begin providing early intervention and intensive mental health services to students most in need. Applicants that need more time to build their workforce pipeline to provide services may wish to consider applying for the Mental Health Service Professional Demonstration Program when offered.

Changes: None.

Comments: None.

Discussion: Consistent with other Departmental regulatory actions, the Department is including a severability clause within the NFP.

Changes: The following severability clause has been added to the NFP: “If any provision of this NFP or its application to any person, act, or practice is held invalid, the remainder of the NFP or the application of its provisions to any other person, act, or practice will not be affected thereby.”

Comments: Although a few commenters supported the parental consent processes described in Requirement (g), many commenters recommended that the Department amend the requirement to allow SEAs and LEAs to oversee or manage parental consent policies and practices, including allowing for an “opt-out” approach for mental health services.

Discussion: The Department believes that parents are the primary decision makers in their children's education and can make the best choices for their children. As such, parents should be informed about mental health services that their children might receive at school.

Changes: None.

Definitions

Comments: Many commenters suggested broadening the definition of “early intervention” services to include universal or preventive approaches. Many commenters believe that the definition of “early intervention” is too restrictive and does not account for the full continuum of mental health services for students. One commenter recommended that the definition be broadened to “school psychological services.”

Discussion: Although the definition of early intervention services may not represent the continuum of services that a school provides, the Department's preference is to focus these funds on early intervention and intensive mental health services to ensure schools are providing the necessary clinical mental health services that some students need to support their academic success in school.

Changes: None.

Comments: One commenter suggested changing the definition of “high-need LEA” to include “community violence,” as they believe that “school violence” is too limiting.

Discussion: The Department appreciates this comment, however, there are other Federal, State, and local resources to address community violence. The Department believes that this program should focus on addressing the impact of violence that occurs at school and directly disrupts the learning environment.

Changes: None.

Comments: One commenter recommended that the definition of “recruit or recruitment” include (1) creating or expanding mentor programs; (2) providing continuing professional development or funds to attend relevant continuing professional development opportunities; (3) providing stipends for obtaining and maintaining the Nationally Certified School Psychologist credential; and (4) supporting membership in professional school psychology associations to ensure ongoing access to collaborative networks, relevant resources, research, and tools to support best practices in school psychology.”

Discussion: We appreciate these comments and note that the types of activities suggested by the commenter are allowable recruitment and retention strategies.

Changes: None.

Comments: One commenter recommended a revised definition of “respecialization” and provided text for consideration. Specifically, the commenter recommended emphasizing that respecialization is a systematic process that outlines specific strategies for retraining or following an alternative pathway to a State-license or State-certification. The commenter suggested strategies in addition to those proposed, including incorporating prior training and preparation to develop an individualized training program that would provide supplemental coursework and experiences to qualify them for State credentialing as a school psychologist. Additionally, the commenter recommended allowing grantees to use funds that help individuals to obtain and maintain school psychology credentials.

Discussion: The Department believes that SEA applicants who receive funding under this program can use sound judgement in determining the best strategies to encourage respecialization to meet their need for additional school psychologists.

Changes: None.

Final Priorities

The Department establishes the following priorities for use in this program. We may use one or more of these priorities in any year in which this program is in effect.

Priority 1—SEAs proposing to increase the number of credentialed school psychologists employed in high-need LEAs.

To meet this priority, an SEA must propose a plan to recruit and retain credentialed school psychologists for employment in high-need LEAs.

Priority 2—LEAs proposing to increase the number of credentialed school psychologists employed in high-need LEAs.

To meet this priority, a high-need LEA or a consortium of high-need LEAs must propose a plan to recruit and retain credentialed school psychologists for employment in high-need LEAs.

Priority 3—SEAs or LEAs increasing the number of credentialed school psychologists delivering early intervention and intensive mental health services in high-need LEAs.

To meet this priority, applicants must propose to increase the number of credentialed school psychologists who will engage in the following:

(a) Providing intensive mental health services and supports to individual students most in need of those services,

(b) Providing early intervention mental health services to address acute concerns and determine if intensive mental health services are needed, and

(c) Building necessary capacity and local support to ensure the provision of intensive mental health services beyond the life of the grant.

Priority 4—SEAs proposing respecialization for existing professionals to become credentialed school psychologists.

To meet this priority, an SEA must propose to increase the number of credentialed school psychologists employed in high-need LEAs by implementing a respecialization plan. The respecialization plan must support professionals who hold, at a minimum, a degree in a related field (e.g., special education, clinical psychology, community counseling) to obtain a license or certification from the SEA or relevant State regulatory body as a school psychologist.

Types of Priorities: When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Requirements

The Department establishes the following application and program requirements for this program. We may apply one or more of these requirements in any year in which the program is in effect.

Application Requirements

(a) SEA applicants must identify in their applications the specific high-need LEAs that will benefit from the grant or how they will identify and select the high-need LEAs designated to benefit from the grant.

(b) LEA applicants must describe how they and each LEA in the consortium, if applicable, meets the definition of high-need LEA.

(c) Applicants must include in their applications the most recently available data on the number of credentialed school psychologists delivering services in the high-need LEA(s) and the projected number of credentialed school psychologists that will be hired and retained to deliver services in the high-need LEA(s) for each year of the project using funds from this grant.

Program Requirements

(a) Eligible Applicants for this program are one or both of SEAs, as defined in 20 U.S.C. 7801(49), or LEAs, as defined in 20 U.S.C. 7801(30), including consortia of LEAs.

(b) Administrative costs for SEA applicants that receive an award under this program may not exceed 10 percent of the annual grant award. Administrative costs for LEA applicants that receive an award under this program may not exceed 5 percent of the annual grant award.

(c) Applicants that receive an award under this program must use grant funds to supplement, and not supplant, non-Federal funds that would otherwise be available for activities funded under this program.

(d) Applicants that receive an award under this program are prohibited from using program funds for: (1) gender ideology, (2) political activism, (3) racial stereotyping, or (4) hostile environments for students of particular races.

(e) Applicants that receive an award under this program must ensure that school psychologists funded by this grant begin delivering services to students as soon as possible, but not later than 270 days from award.

(f) Applicants that receive an award under this program must ensure that any school psychologist hired under this grant, including any provider that offers telehealth services (as defined in this notice), is credentialed by the State to work in an elementary school (as defined in 20 U.S.C. 7801(19)) or secondary school (as defined in 20 U.S.C. 7801(45)).

(g) Applicants that receive an award under the program must comply with section 4001(a) of Title IV of the ESEA. In carrying out the Informed Written Consent requirements described in paragraph (a)(1), the exception in (a)(2)(B)(i) only applies after the applicant has documented that it has made multiple repeated attempts through various communication methods to obtain parent consent. Subsequently, where parent consent is not obtained under (a)(2), not including the provisions in (B)(ii), the parent of a child participating in such services will be provided notice of initial and subsequent service delivery.

(h) Applicants that receive an award under this program must ensure that any school psychologist offering services (including telehealth services) does so in a manner consistent with the Family Educational Rights and Privacy Act (FERPA), the Protection of Pupil Rights Amendment (PPRA), the Individuals with Disabilities Education Act (IDEA), Section 504 of the Rehabilitation Act, and the Americans with Disabilities Act, as well as all other applicable Federal, State, and local laws.

Final Definitions

The Department establishes definitions of “credentialed,” “early intervention mental health services,” “high-need LEA,” “intensive mental health services,” “recruitment,” “respecialization,” “retention,” and “telehealth” for use in this program. We may apply these definitions in any year in which this program is in effect.

Credentialed means an individual who possesses a valid license or certificate from the SEA or relevant regulatory body as a school psychologist approved by the State to provide services aligned with the practice of school psychology.

Early intervention mental health services mean services for students who are exhibiting signs of distress or impairment or are at heightened risk of needing mental health services. Based on current best practices in school psychology for serving an individual student, early intervention mental health services may include, for example, screening and referrals, small group services, or brief individualized interventions.

High-need LEA means an LEA that has a significant need for additional school psychologists based on:

(a)(1) a ratio of students to school psychologists that exceeds a ratio of 500 students to 1 school psychologist and (2) high rates of school violence, poverty, substance use, suicide, trafficking, or other adverse childhood experiences;

(b) having received a Project School Emergency Response to Violence (SERV) grant from the U.S. Department of Education since October 1, 2020; or

(c) having experienced a traumatic event since January 1, 2025, and did not receive a Project School Emergency Response to Violence (SERV) grant from the U.S. Department of Education.

Intensive mental health services mean services for students with identified mental health needs that limit engagement throughout the school day. Based on the best clinical approach to serving an individual student, intensive mental health services may include, for example, individual, group, or family therapy services, or coordination of services with providers serving the student in a non-school setting.

Recruit or Recruitment means strategies that help attract and hire credentialed school psychologists, including by doing at least one of the following:

(1) Providing an annual salary or stipend to newly hired school psychologists.

(2) Creating pathways to grant cross-State credentialing reciprocity for school psychologists.

(3) Providing hiring incentives and supports, for example, increasing pay; offering monetary incentives for relocation to serve in high-need LEAs; providing services via telehealth; creating hybrid roles that allow for leadership, academic, or research opportunities; and offering service scholarship programs, such as those that provide grants in exchange for a commitment to serve in the LEA for a minimum number of years.

Respecialization means strategies that provide opportunities for professional retraining and alternative pathways to obtain a State-license or State-certification as a school psychologist for individuals who hold, at a minimum, a degree in a related field (e.g., special education, clinical psychology, community counseling). Strategies include one or more of the following:

(1) Revising, updating, or streamlining requirements for such individuals so that additional training or other requirements focus only on the training needed to obtain a credential as a school psychologist.

(2) Providing a stipend or making a payment to support the training needed to obtain a credential as a school psychologist.

(3) Offering flexible options for completing training needed to obtain a credential as a school psychologist.

(4) Offering other meaningful activities that result in such individuals obtaining a credential as a school-psychologist.

Retain or Retention means strategies to help ensure that credentialed school psychologists stay in their position to avoid gaps in service and unfilled positions, including by—

(1) Providing opportunities for advancement or leadership, such as career pathways programs, recognition and award programs, and mentorship programs; and

(2) Offering incentives and supports to help mitigate shortages, for example, increasing pay; offering monetary incentives for relocation to serve in high-need LEAs; providing services via telehealth; offering service scholarship programs, such as those that provide grants in exchange for a commitment to serve in a high-need LEA for a minimum number of years; and developing paid internship programs.

Telehealth means the use of electronic information and telecommunication technologies to support and promote long-distance clinical mental health care, patient and professional mental health-related education, and administration. Technologies include videoconferencing, the internet, store-and-forward imaging, streaming media, and landline and wireless communications.

Severability: If any provision of this NFP or its application to any person, act, or practice is held invalid, the remainder of the NFP or the application of its provisions to any other person, act, or practice will not be affected thereby.

Executive Orders 12866, 13563, and 14192

Regulatory Impact Analysis: This regulatory action is not a significant regulatory action subject to review by the Office of Management and Budget under section 3(f) of Executive Order 12866. Since this regulatory action is not a significant regulatory action under section 3(f) of Executive Order 12866, it is not considered an “Executive Order 14192 regulatory action.” We have also reviewed this regulatory action under Executive Order 13563. We are issuing the priorities, requirements, and definitions only on a reasoned determination that their benefits would justify their costs. The Department believes that this regulatory action is consistent with the principles in Executive Order 13563. We also have determined that this regulatory action would not unduly interfere with State, local, and Tribal governments in the exercise of their governmental functions. In accordance with these Executive Orders, the Department has assessed the potential costs and benefits, both quantitative and qualitative, of this regulatory action. The potential costs are those resulting from statutory requirements and those we have determined are necessary for administering the Department's programs and activities.

Discussion of Costs and Benefits: The Department believes that these proposed priorities, requirements, and definitions would not impose significant costs on eligible entities, whose participation in this program is voluntary, and whose costs can generally be covered with grant funds. As a result, the proposed priorities, requirements, and definitions would not impose any particular burden, except when an entity voluntarily elects to apply for a grant. The proposed priorities, requirements, and definitions would help ensure that the grant program selects high-quality applicants to implement activities that meet the goals of the program. We believe these benefits would outweigh any associated costs.

Intergovernmental Review: This action is subject to Executive Order 12372 and the regulations in 34 CFR part 79. This document provides early notification of our specific plans and actions for this program.

Regulatory Flexibility Act Certification: This section considers the effects that the final regulations may have on small entities in the educational sector as required by the Regulatory Flexibility Act, 5 U.S.C. 601 et seq. The Secretary certifies that this regulatory action would not have a significant economic impact on a substantial number of small entities. The small entities that these priorities, requirements, and definitions would affect are LEAs applying for and receiving funds under this program. We believe that the costs imposed on an applicant by the priorities, requirements, and definitions would be limited to paperwork burden related to preparing an application and that the benefits of the priorities, requirements, and definitions would outweigh any costs incurred by the applicant.

Participation in this program is voluntary. For this reason, the priorities, requirements, and definitions would impose no burden on small entities unless they applied for funding under the program. Eligible applicants would determine whether to apply for funds and would weigh the requirements for preparing applications, and any associated costs, against the likelihood of receiving funding and the requirements for implementing projects under the program. Eligible applicants most likely would apply only if they determine that the likely benefits exceed the costs of preparing an application. The likely benefits include the potential receipt of a grant as well as other benefits that may accrue to an entity through its development of an application, such as the use of that application to seek funding from other sources to address a shortage in school-based mental health services providers.

Paperwork Reduction Act: In the NPP, we explained that the proposed priorities, requirements, and definitions contained information collection requirements that are covered under OMB control number 1810-0772 and that the priorities, requirements, and definitions did not affect the currently approved data collection. Since publishing the NPP, we have conducted a review of the final priorities, requirements, and definitions and believe it would be most efficient to collect the information associated with the priorities, requirements, and definitions using the more broadly used, also approved Generic Application Package for Departmental Generic Grant Programs (OMB control number 1894-0006).

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or another accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Hayley B. Sanon,
Principal Deputy Assistant Secretary and Acting Assistant Secretary, Office of Elementary and Secondary Education.

[FR Doc. 2025-18900 Filed 9-26-25; 8:45 am]

BILLING CODE 4000-01-P